DEPARTMENT OF ENERGY

Federal Energy Regulatory Commission

[Docket No. ER01-1619-000]

Duke Energy Mohave, LLC; Notice of Issuance of Order

May 30, 2001.

On March 23, 2001, Duke Energy Mohave, LLC (Duke Mohave) filed an application seeking authority to sell firm and non-firm energy, capacity, and ancillary services at market-based rates and to reassign transmission capacity under the terms of its proposed FERC Electric Tariff No. 1. Duke Mohave also sought certain blanket approvals and waivers of the Commission's regulations. In particular, Duke Mohave requested that the Commission grant blanket approval under 18 CFR part 34 of all future issuances of securities and assumptions of liabilities by Duke Mohave. On May 18, 2001, the Commission issued an Order Conditionally Accepting For Filing Market-Based Rate Tariff (Order), in the above-docketed proceeding.

The Commission's May 18, 2001 Order granted the request for blanket approval under Part 34, subject to conditions found in Ordering Paragraphs (D), (E), and (G).

(D) Within 30 days of the date of issuance of this order, any person desiring to be heard or to protest the Commission's blanket approval of issuances of securities or assumptions of liabilities by Duke Mohave should file a motion to intervene or protest with the Federal Energy Regulatory Commission, 888 First Street, NE., Washington, DC 20426, in accordance with Rules 211 and 214 of the Commission's Rules of Practice and Procedure, 18 CFR 385.211 and 385.214.

(E) Absent a request to be heard within the period set forth in Ordering Paragraph (D) above, Duke Mohave is hereby authorized to issue securities and assume obligations or liabilities as guarantor, indorser, surety, or otherwise in respect of any security of another person; provided that such issue or assumption is for some lawful object within the corporate purposes of Duke Mohave, compatible with the public interest, and reasonably necessary or appropriate for such purposes.

(G) The Commission reserves the right to modify this order to require a further showing that neither the public nor private interests will be adversely affected by continued Commission approval of Duke Mohave's issuances of securities or assumptions of liabilities. * * *

Notice is hereby given that the deadline for filing motions to intervene or protests, as set forth above, is June 18, 2001.

Copies of the full text of the Order are available from the Commission's Public Reference Branch, 888 First Street, N.E., Washington, D.C. 20426. The Order may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14063 Filed 6-4-01; 8:45 am]

BILLING CODE 6717-01-M